DEPARTMENT OF TRANSPORTATION

Federal Aviation Administration

Notice of Intent To Rule on Request To Release Airport Property at Fort Smith Regional Airport, Fort Smith, AR

AGENCY: Federal Aviation Administration (FAA), DOT.

ACTION: Notice of request to release airport property.

SUMMARY: The FAA proposes to rule and invites public comment on the release of land at Fort Smith Regional Airport under the provisions of Title 49, U.S.C. Section 47153(c).

DATES: Comments must be received on or before August 18, 2010.

ADDRESSES: Comments on this application may be mailed or delivered to the FAA at the following address: Mr. Edward N. Agnew, Manager, Federal Aviation Administration, Southwest Region, Airports Division, Arkansas/Oklahoma Airports Development Office, ASW-630, 2601 Meacham Boulevard, Fort Worth, Texas 76137.

In addition, one copy of any comments submitted to the FM must be mailed or delivered to Mr. John Parker, Airport Director, Fort Smith Regional Airport, at the following address: Fort Smith Regional Airport, 6700 McKennon Blvd., Suite 200, Fort Smith, AR 72903.

FOR FURTHER INFORMATION CONTACT: Mr. Jimmy Pierre, Federal Aviation Administration, Airports Development Office, ASW-630, 2601 Meacham Boulevard, Fort Worth, Texas 76137.

The request to release property may be reviewed in person at this same location.

SUPPLEMENTARY INFORMATION: The FAA invites public comment on the request to release property at the Fort Smith Regional Airport.

On June 24, 2010, the FAA determined that the request to release property at Fort Smith Regional Airport submitted by the City of Fort Smith met the procedural requirements of the Federal Aviation Regulations, Part 155. The FAA may approve the request, in whole or in part, no later than August 1, 2010.

The following is a brief overview of the request:

The Fort Smith Regional Airport requests the release of 2.11 acres of airport property. The release of property will allow the Arkansas Highway Department to make improvements to Highway 255 and Century Drive. The release will also allow the airport to receive, in exchange for the 2.11 acres, a cash payment in the amount of $257,400.00, which the Airport will use toward AlP eligible taxiway improvements in the general aviation area at Fort Smith Regional Airport.

Any person may inspect the request in person at the FAA office listed above under FOR FURTHER INFORMATION CONTACT.

In addition, any person may, upon request, inspect the application, notice and other documents germane to the application in person at the Fort Smith Regional Airport.

Issued in Fort Worth, Texas, on June 24, 2010.
Kelvin L. Solco,
Manager, Airports Division.

[FR Doc. 2010-17292 Filed 7-16-10; 8:45 am]

BILLING CODE 4910-13-M